DEPARTMENT OF COMMERCE

Patent and Trademark Office

Agency Information Collection Activities; Submission to the Office of Management and Budget (OMB) for Review and Approval; Comment Request; National Summer Teacher Institute

The United States Patent and Trademark Office (USPTO) will submit the following information collection request to the Office of Management and Budget (OMB) for review and clearance in accordance with the Paperwork Reduction Act of 1995, on or after the date of publication of this notice. The USPTO invites comment on this information collection renewal, which helps the USPTO assess the impact of its information collection requirements and minimize the public's reporting burden. Public comments were previously requested via the Federal Register on March 9, 2021 during a 60-day comment period. This notice allows for an additional 30 days for public comments.

Agency: United States Patent and Trademark Office, Department of Commerce.

Title: National Summer Teacher Institute.

OMB Control Number: 0651-0077.

Form Numbers: (NSTI = National Summer Teacher Institute):

• NSTI 1 (Summer Teacher Institute Application)

• NSTI 2 (Summer Teacher Institute Participant Survey)

• NSTI 3 (Summer Teacher Institute Webinar/Workshop Survey)

Type of Request: Extension and revision of a currently approved information collection.

Number of Respondents: 7,000 respondents per year.

Average Hour per Response: The USPTO estimates that it will take the public approximately 5 minutes (0.08 hours) to 30 minutes (0.5 hours) to complete a response, depending on the complexity of the particular item. This includes the time to gather the necessary information, create the documents, and submit the completed item to the USPTO.

Estimated Total Annual Respondent Burden Hours: 2,999 hours.

Estimated Total Annual Non-Hour Cost Burden: $0.

Needs and Uses: The National Summer Teacher Institute (NSTI) is a multi-day professional development training opportunity open to all K-12 teachers nationwide. NSTI is designed to increase teachers' knowledge of making, inventing, creating, and protecting intellectual property so they can inspire the next generation of innovators and entrepreneurs. The information gathered in this information collection includes applications for the NSTI. The program application requires interested individuals to certify that they: Are educators with at least 3 years' experience; identify STEM-related fields they have taught in the last year; identify STEM-related fields they plan to teach in the upcoming year; and acknowledge their commitment to incorporate the learnings from the NSTI into their curriculum, where applicable, and cooperate with sharing lessons and outcomes with teachers and USPTO.

The USPTO also conducts webinars and workshops for K-12 educators in conjunction with or subsequent to the NSTI to provide information on IP, invention, and STEM topics of interest to K-12 educators. Workshops will be available for educators with less than 3 years of experience, pre-service teachers, higher education faculty, home school, and informal educators. USPTO plans to conduct surveys on the NSTI, workshops, and the webinars in order to gain useful feedback from program participants.

Affected Public: Individuals or households.

Frequency: On occasion.

Respondent's Obligation: Voluntary.

This information collection request may be viewed at www.reginfo.gov. Follow the instructions to view Department of Commerce, USPTO information collections currently under review by OMB.

Written comments and recommendations for this information collection should be submitted within 30 days of the publication of this notice on the following website www.reginfo.gov/public/do/PRAMain. Find this particular information collection by selecting “Currently under 30-day Review—Open for Public Comments” or by using the search function and entering either the title of the information collection or the OMB Control Number 0651-0077.

Further information can be obtained by:

• Email: InformationCollection@uspto.gov. Include “0651-0077 information request” in the subject line of the message.

• Mail: Kimberly Hardy, Office of the Chief Administrative Officer, United States Patent and Trademark Office, P.O. Box 1450, Alexandria, VA 22313-1450.

Kimberly Hardy,
Information Collections Officer, Office of the Chief Administrative Officer, United States Patent and Trademark Office.

[FR Doc. 2021-10587 Filed 5-19-21; 8:45 am]

BILLING CODE 3510-16-P